DEPARTMENT OF AGRICULTURE

Commodity Credit Corporation

Farm Service Agency

Financial Assistance To Promote Water Conservation in the Yakima Basin

AGENCY: Commodity Credit Corporation, (CCC), Farm Service Agency, USDA.

ACTION: Notice of Intent to make monies available to promote water Conservation in the Yakima Basin.

SUMMARY: Section 2107 of the Supplemental Appropriations Act, 2001, Pub. L. 107-20, provided for financial assistance to eligible producers to promote water conservation in the Yakima Basin. This notice sets out the method by which the payment will be distributed on behalf of eligible producers to eligible owners and operators whose expected deliveries of irrigation water were prorated within the Yakima Basin during the past crop year and who agree to promote water conservation methods in future agricultural activities.

FOR FURTHER INFORMATION CONTACT: Ilka Gray, Agricultural Program Specialist, USDA/FSA/CEPD/STOP 0513, 1400 Independence Ave., SW., Washington, DC 20250-0513, (202) 690-0794, or e-mail at: ilka_gray@wdc.usda.gov

SUPPLEMENTARY INFORMATION: Section 2107 of the Supplemental Appropriations Act, 2001 (Pub. L. 107-20) provided $2 million to make available financial assistance to eligible producers to promote water conservation in the Yakima Basin (Basin). The Yakima River flows for more than 200 miles through south central Washington and, with its tributaries, drains about 6,150 square miles, or 4 million acres. Much of the water is diverted for irrigation in the Yakima Valley. From 50 to 100 percent of the water delivered to the lower basin from the Naches River and upper Yakima River is diverted for irrigation and hydropower generation during the irrigation season. Most of the Basin receives less than 10 inches of precipitation a year.

In the Basin counties of Benton, Kittitas, and Yakima, there are 12,883 farms and 38,461 agricultural producers. The economy of the Basin is tied to agricultural production with a annual crop value of $628,503,519. Cereal crops, irrigated pasture, and hay production are predominant in Kittitas County, while Yakima and Benton Counties produce fruits, such as grapes, vegetables, and other specialty crops such as hops and mint. The Yakama Reservation lies in the Wapato Irrigation District and occupies about 40 percent of Yakima County and about 15 percent of the Basin.

Due to drought conditions in the Basin, water was prorated in crop year 2001. In the Yakima Basin, water use is tied to water rights. The two primary types of water rights are “prorateable” and “nonproratable” water. Nonproratable water allows the producer a right to utilize water in all conditions, including drought, thus almost guaranteeing water delivery. Prorateable water allows water delivery to be reduced in situations where there are impediments to normal water delivery such as scarcity of water due to drought conditions.

To assist producers adversely affected by the drought and water prorations, Congress included in section 2107 of Pub. L. 107-20 $2 million to remain available until expended, from amounts available to the U.S. Department of Agriculture's Commodity Credit Corporation under 15 U.S.C. 713a-4, directing ”* * * the Secretary of Agriculture to make available financial assistance to eligible producers to promote water conservation in the Yakima Basin, Washington * * *.” In addition, the statute specified that to the extent that regulations might be found to be needed, the issuance of regulations promulgated pursuant to this new authority would be made without regard to: (1) The notice and comment provisions of section 553 of title 5, United States Code; (2) the Statement of Policy of the Secretary of Agriculture effective July 24, 1971, (36 FR 13804), relating to notices of proposed rulemaking and public participation in rulemaking; and (3) chapter 35 of title 44, United States Codes (commonly know as the “Paperwork Reduction Act”). It was also specified that in carrying out this section the Secretary should use the authority provided under section 808 of title 5, United States Code, which exempts certain rules from having to undergo certain Congressional oversight procedures prior to the time that the rules are made effective. The statute limited the eligible area to the Basin but did not stipulate any particular breakout to be paid. The funding will supplement existing assistance already available in the region by promoting water conservation.

Eligibility

There are over 31 irrigation districts operating in the Basin according to data collected. There are 418,958 acres listed for the irrigation districts which are mainly classified as agriculture. According to the information obtained from the U.S. Department of Interior's Bureau of Reclamation (USDOI), approximately one-half of the irrigation districts suffered no or very minimal consequences from the water prorations in crop year 2001. Of those districts affected by the water prorations, only three, Roza, Kittitas, and Wapato, had significant impact that occurred from water prorations. Roza and Kittitas Irrigation Districts, with 100 percent prorateable water, received only 37 percent of normal water, during the crop year 2001, and the Wapato Irrigation District, with 53 percent of prorateable water, received 67 percent of normal water. There are 256,972 acres of agricultural land in Roza, Kittitas, and Wapato irrigation districts with 7,065 agricultural producers.

Based on the relative degree of water available which is an indicator of the suffering attributed to the drought, the program will be limited to the three irrigation districts which received the least amount of normal water and were the most severely impacted. These irrigation districts are Rosa, Kittitas, and Wapato. If payments were issued on all agricultural land in the Basin, payments are estimated to be less than $4.00 an acre. It is unclear how much, if any, water conservation could be achieved with the relatively low payment per acre rate. However, payments to affected producers in the three most severely impacted districts will be higher making more water conversation achievable.

CCC will use data on Basin farming operations, along with data from water irrigation districts and USDOI to identify the universe of eligible producers. Anyone that has an interest in the eligible land may contact the Farm Service Agency (FSA) office to determine if they are eligibile for assistance.

Funds will be divided according to contract acres and according to payment shares indicated. Such shares must be agreed to by the owner and operator of the eligible land. Only undisputed requests for assistance will be paid. Producers will be provided with information on what kinds of conservation measures might be undertaken and other options that may be available to them. Such actions may include: (1) Moving to less water-intensive crops; (2) improving irrigation scheduling; and (3) developing on-farm irrigation improvements such as land leveling, canal maintenance, and sprinkler calibration. CCC can provide producers with assistance in determining the best water conservation practice(s) for their operation. All participating producers will agree to promote water conservation methods in future agricultural activities as a condition of payment. CCC will keep this agreement of file with the producer's other USDA records.

Further information about the program will be made available at the local FSA offices of the USDA. Program participation will be such subject to such additional terms and conditions as may be set out in the program application.

Signed at Washington, DC, on January 28, 2002.
James R. Little,
Executive Vice President, Commodity Credit Corporation.

[FR Doc. 02-3501 Filed 2-12-02; 8:45 am]

BILLING CODE 3410-05-P